DEPARTMENT OF TRANSPORTATION

Federal Aviation Administration

14 CFR Part 39

[Docket No. FAA-2013-0472; Directorate Identifier 98-CE-097-AD]

RIN 2120-AA64

Airworthiness Directives; PIAGGIO AERO INDUSTRIES S.p.A Airplanes

AGENCY: Federal Aviation Administration (FAA), Department of Transportation (DOT).

ACTION: Notice of proposed rulemaking (NPRM); rescission.

SUMMARY: We propose to rescind an airworthiness directive (AD) for PIAGGIO AERO INDUSTRIES S.p.A. Model P-180 airplanes. The existing AD resulted from mandatory continuing airworthiness information (MCAI) originated by an aviation authority of another country to identify and correct an unsafe condition on an aviation product. The MCAI describes the unsafe condition as partial detachment of the inner protective film of the composite nacelles. Since issuance of that AD, we have determined that the unsafe condition does not exist or is not likely to develop on affected type design airplanes, and therefore the AD should be rescinded. The proposed AD would allow the public the opportunity to comment on the FAA's determination of the unsafe condition no longer existing before it is officially rescinded.

DATES: We must receive comments on this proposed AD by July 15, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Comments Invited

We invite you to send any written relevant data, views, or arguments about this proposed AD. Send your comments to an address listed under the ADDRESSES section. Include “Docket No. FAA-2013-0472; Directorate Identifier 98-CE-097-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 18, 1999, we issued AD 99-07-10, Amendment 39-11095 (64 FR 14824, March 29, 1999). That AD required actions intended to address an unsafe condition on the products listed above.

Since we issued AD 99-07-10, Amendment 39-11095 (64 FR 14824, March 29, 1999), the European Aviation Safety Agency (EASA), which is the Technical Agent for the Member States of the European Community, has issued AD Cancellation Notice No.: 2013-0085-CN, dated April 8, 2013, which cancelled Ente Nazionale per l'Aviazione Civile (ENAC) (the airworthiness authority for Italy) AD No. 98-208, dated June 9, 1998. Italian AD No. 98-208 required the inspections and corrective actions of Piaggio Service Bulletin (Mandatory) No.: SB-80-0101, Original Issue: May 6, 1998. AD 99-07-10, Amendment 39-11095 (64 FR 14824, March 29, 1999), is the result of mandatory continuing airworthiness information (MCAI) issued by ENAC.

We have been notified that since 2000, all nacelles for PIAGGIO AERO INDUSTRIES S.p.A Model P-180 airplanes have been manufactured by a different supplier, and no new occurrences of film detachment have been reported on earlier manufactured airplanes. Therefore, nacelle inner panel protective film detachment is no longer considered probable. Consequently, PIAGGIO AERO INDUSTRIES S.p.A. issued Mandatory Service Bulletin No. SB 80-0101, Rev. N. ZZ, dated February 19, 2013, to cancel the previous revision of this service bulletin.

FAA's Determination and Requirements of the Proposed AD

We are proposing this AD because we evaluated all information and determined the unsafe condition identified in the existing AD no longer exists and the AD is not necessary.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 99-07-10, Amendment 39-11095 (64 FR 14824, March 29, 1999), and adding the following new AD:

PIAGGIO AERO INDUSTRIES S.p.A: Docket No. FAA-2013-0472; Directorate Identifier 98-CE-097-AD.

(a) Comments Due Date

We must receive comments by July 15, 2013.

(b) Affected ADs

This AD rescinds AD 99-07-10, Amendment 39-11095 (64 FR 14824, March 29, 1999).

(c) Applicability

This AD applies to PIAGGIO AERO INDUSTRIES S.p.A Model P-180 airplanes, all serial numbers, certificated in any category.

(d) Subject

Joint Aircraft System Component (JASC)/Air Transport Association (ATA) of America Code 54; Nacelles/Pylons.

Issued in Kansas City, Missouri, on May 23, 2013.
Earl Lawrence,
Manager, Small Airplane Directorate, Aircraft Certification Service.

[FR Doc. 2013-12822 Filed 5-29-13; 8:45 am]

BILLING CODE 4910-13-P